DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of 12 individuals and 14 entities whose property and interests in property have been blocked pursuant to the Foreign Narcotics Kingpin Designation Act (Kingpin Act) (21 U.S.C. 1901-1908, 8 U.S.C. 1182).

DATES: The designation by the Director of OFAC of the 12 individuals and 14 entities identified in this notice pursuant to section 805(b) of the Kingpin Act is effective on July 1, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 1, 2014, the Director of OFAC designated the following 12 individuals and 14 entities whose property and interests in property are blocked pursuant to section 805(b) of the Kingpin Act.

Individuals

1. ALZATE GIRALDO, Rosalba; DOB 13 Sep 1956; POB Santuario, Antioquia, Colombia; citizen Colombia; Cedula No. 22082396 (Colombia) (individual) [SDNTK] (Linked To: MEJIA ALZATE ASOCIADOS Y CIA. LTDA.; Linked To: PROMOTORA TURISTICA SOL PLAZA S.A.; Linked To: CANTERAS COPACABANA S.A.; Linked To: ALMEQUIP S.A.S.; Linked To: ROSAGRO S.A.S.).

2. BARCO MEJIA, Jose Guillermo; DOB 03 Aug 1976; POB Santuario, Antioquia, Colombia; citizen Colombia; Cedula No. 94486900 (Colombia) (individual) [SDNTK] (Linked To: GRUPO EMPRESARIAL ENKOR PROFESIONAL S.A.S.; Linked To: GRUPO EMPRESARIAL GHEMA S.A.S.; Linked To: ALMACEN GUIBAR; Linked To: E-PROFESIONAL).

3. BARCO MEJIA, Jose Albeiro; DOB 23 May 1965; POB Santuario, Antioquia, Colombia; citizen Colombia; Cedula No. 70691995 (Colombia) (individual) [SDNTK] (Linked To: INVERSIONES MEYBAR S.A.S.; Linked To: GRUPO EMPRESARIAL ENKOR PROFESIONAL S.A.S.).

4. BARCO MEJIA, Jesus Rodolfo; DOB 19 Mar 1967; POB Santuario, Antioquia, Colombia; citizen Colombia; Cedula No. 70692776 (Colombia) (individual) [SDNTK] (Linked To: GRUPO EMPRESARIAL GHEMA S.A.S.).

5. BEDOYA ESPINOSA, Humberto Antonio; DOB 14 Jan 1949; POB Jerico, Antioquia, Colombia; citizen Colombia; Cedula No. 8293921 (Colombia) (individual) [SDNTK] (Linked To: PROMOTORA TURISTICA SOL PLAZA S.A.; Linked To: CANTERAS COPACABANA S.A.).

6. MEJIA ALZATE, Maria Leivy; DOB 28 Jul 1981; POB Medellin, Colombia; citizen Colombia; Cedula No. 43276113 (Colombia) (individual) [SDNTK] (Linked To: CANTERAS COPACABANA S.A.; Linked To: PROMOTORA TURISTICA SOL PLAZA S.A.; Linked To: ASESORIA Y ASISTENCIA AGROPECUARIA Y AMBIENTAL A4).

7. MEJIA ALZATE, Jose Alejandro; DOB 30 May 1984; POB Medellin, Colombia; citizen Colombia; Cedula No. 8126905 (Colombia) (individual) [SDNTK] (Linked To: CANTERAS COPACABANA S.A.; Linked To: PROMOTORA TURISTICA SOL PLAZA S.A.; Linked To: ALMEQUIP S.A.S.).

8. MEJIA ALZATE, Juan Carlos; DOB 17 Jul 1980; POB Medellin, Colombia; citizen Colombia; Cedula No. 71313043 (Colombia) (individual) [SDNTK] (Linked To: PROMOTORA TURISTICA SOL PLAZA S.A.; Linked To: TRITCON S.A.S.).

9. MEJIA ALZATE, Andres Camilo; DOB 15 Aug 1987; POB Medellin, Colombia; citizen Colombia; Cedula No. 1128270678 (Colombia) (individual) [SDNTK] (Linked To: CANTERAS COPACABANA S.A.; Linked To: PROMOTORA TURISTICA SOL PLAZA S.A.; Linked To: TRITCON S.A.S.).

10. MEJIA ALZATE, Victor Gabriel; DOB 05 Oct 1985; POB Medellin, Colombia; citizen Colombia; Cedula No. 98772126 (Colombia) (individual) [SDNTK] (Linked To: CANTERAS COPACABANA S.A.; Linked To: PROMOTORA TURISTICA SOL PLAZA S.A.; Linked To: TRITCON S.A.S.).

11. MEJIA SALAZAR, Pedro Claver; DOB 19 May 1943; POB Granada, Antioquia, Colombia; citizen Colombia; Cedula No. 3606361 (Colombia) (individual) [SDNTK] (Linked To: ARENERA EL CERREJON; Linked To: PROMOTORA TURISTICA SOL PLAZA S.A.; Linked To: INVERSIONES MEYBAR S.A.S.; Linked To: MEJIA ALZATE ASOCIADOS Y CIA. LTDA.).

12. MIRA PEREZ, Fredy Alonso (a.k.a. “FREDY COLAS”); DOB 02 Jul 1966; POB Bogota, Colombia; citizen Colombia; Cedula No. 71683988 (Colombia) (individual) [SDNTK].

Entities

1. ALMACEN GUIBAR, Cali, Colombia; Matricula Mercantil No 441336 (Cali) [SDNTK].

2. ALMEQUIP S.A.S., Circular 73B No. 39B 115 Of. 9901, Medellin, Colombia; NIT #900314383-9 (Colombia) [SDNTK].

3. ARENERA EL CERREJON, Km. 2 via Aguadas, Aguadas, Caldas, Colombia; Matricula Mercantil No 121398 (Manizales) [SDNTK].

4. ASESORIA Y ASISTENCIA AGROPECUARIA Y AMBIENTAL A4, Manizales, Caldas, Colombia; Matricula Mercantil No 125828 (Manizales) [SDNTK].

5. CANTERAS COPACABANA S.A. (a.k.a. TRAMCO S.A.), Circular 73B No. 39B 15 Of. 9901, Medellin, Colombia; NIT #811035366-3 (Colombia) [SDNTK].

6. E-PROFESIONAL, Calle 6 50-166, Medellin, Colombia; Matricula Mercantil No 42525602 (Medellin) [SDNTK].

7. GRUPO EMPRESARIAL ENKOR PROFESIONAL S.A.S. (a.k.a. ENKOR PROFESIONAL), Calle 6 No. 50-154, Sector Coltabaco, Medellin, Colombia; Carrera 80 No. 49A-118, Medellin, Colombia; NIT #900440725-3 (Colombia) [SDNTK].

8. GRUPO EMPRESARIAL GHEMA S.A.S. (a.k.a. GHEMA), Carrera 80 No. 49A-118, Medellin, Colombia; Calle 10 No. 21-08, Ofc. 405, Bogota, Colombia; NIT #900441675-8 (Colombia) [SDNTK].

9. INVERSIONES MEYBAR S.A.S., Calle 48 No. 53-62 Int. 902, Medellin, Colombia; NIT #811004754-5 (Colombia) [SDNTK].

10. MEJIA ALZATE ASOCIADOS Y CIA. LTDA., Circular 73B 39 115-106, Copacabana, Antioquia, Colombia; Medellin, Colombia; NIT #800246606-1 (Colombia) [SDNTK].

11. PROMOTORA TURISTICA SOL PLAZA S.A. (a.k.a. HOTEL SOL PLAZA), Circular 73B No. 39B 115 Of. 9901, Medellin, Colombia; Carrera 32 No. 35B 44, La Pintada, Antioquia, Colombia; NIT #811035697-6 (Colombia); Matricula Mercantil No 30401904 (Medellin); alt. Matricula Mercantil No 37062402 (Medellin) [SDNTK].

12. ROSAGRO S.A.S., Circular 73B No. 39B-115, Of. 9901, Medellin, Colombia; NIT #900314092-0 (Colombia) [SDNTK].

13. TRITCON S.A.S., Circular 73B 39B 115 Of. 9901, Medellin, Colombia; NIT #900315365-0 (Colombia) [SDNTK].

14. VARIEDADES JOSE ALBEIRO BARCO M., Calle 48 53 62 Bod. 1202, Medellin, Colombia; Matricula Mercantil No 30517002 (Medellin) [SDNTK].

Dated: July 1, 2014.
Barbara C. Hammerle,
Acting Director, Office of Foreign Assets Control.

[FR Doc. 2014-16392 Filed 7-11-14; 8:45 am]

BILLING CODE 4810-AL-P